COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products to the Procurement List that will be furnished by the nonprofit agency employing persons who are blind or have other severe disabilities, and deletes products and a service from the Procurement List previously furnished by such agencies.

DATES: Effective April 7, 2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On January 24, 2014 (79 FR 4154-4155), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing small entity to furnish the products to the Government.

3. There are no known regulatory alternatives which would accomplish the objectives of the Javits-Wagner-O'Day Act (41 U.S.C. 8501-8506) in connection with the products proposed for addition to the Procurement List.

End of Certification

Accordingly, the following products are added to the Procurement List:

Products

Tape, Electrical Insulation

NSN: 5970-01-245-7042—Black, 1″ w × 108 ft.

NSN: 5970-01-013-9367—White, ¾″ w × 66 ft.

NPA: Cincinnati Association for the Blind, Cincinnati, OH.

Contracting Activity: DEFENSE LOGISTICS AGENCY AVIATION, RICHMOND, VA.

Coverage: B-List for the Broad Government Requirement as aggregated by the Defense Logistics Agency Contracting Office, Richmond, VA.

Deletions

On January 24, 2014 (79 FR 4154-4155) and January 31, 2014 (79 FR 5383), the Committee for Purchase From People Who Are Blind or Severely Disabled published notices of proposed deletions from the Procurement List.

After consideration of the relevant matter presented, the Committee has determined that the products and service listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

Kit, Combination Dustpan and Broom

NSN: 7290-00-NIB-0002.

NPA: New York City Industries for the Blind, Inc., Brooklyn, NY.

Contracting Activity: DEPARTMENT OF VETERANS AFFAIRS, NAC, HINES, IL.

Tape, Electronic Data Processing

NSN: 7045-01-115-0502.

NPA: North Central Sight Services, Inc., Williamsport, PA.

Contracting Activity: DEFENSE LOGISTICS AGENCY TROOP SUPPORT, PHILADELPHIA, PA.

Card, Index

NSN: 7530-00-281-1315.

NPA: Louisiana Association for the Blind, Shreveport, LA.

Contracting Activity: GENERAL SERVICES ADMINISTRATION, NEW YORK, NY.

Kit, Pre-Inked Stamps

NSN: 7520-00-NIB-1090.

NSN: 7520-00-NIB-1099.

NSN: 7520-00-NIB-1105.

NSN: 7520-00-NIB-1107.

NPA: The Lighthouse for the Blind, Inc. (Seattle Lighthouse), Seattle, WA.

Contracting Activity: U.S. Postal Service, Washington, DC.

Service

Service Type/Location: Carpet Replacement Service, Smithsonian National Gallery of Art, 6th & Constitution Avenue NW., Washington, DC.

NPA: UNKNOWN.

Contracting Activity: NATIONAL GALLERY OF ARTS, WASHINGTON, DC.

Barry S. Lineback,
Director, Business Operations.

[FR Doc. 2014-04987 Filed 3-6-14; 8:45 am]

BILLING CODE 6353-01-P